DEPARTMENT OF AGRICULTURE

Animal and Plant Health Inspection Service

[Docket No. APHIS-2018-0016]

Notice of Request for Revision to and Extension of Approval of an Information Collection; Infectious Salmon Anemia; Payment of Indemnity

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the payment of indemnity due to infectious salmon anemia.

DATES: We will consider all comments that we receive on or before May 29, 2018.

ADDRESSES: You may submit comments by either of the following methods:

• Federal eRulemaking Portal: Go to http://www.regulations.gov/#!docketDetail;D=APHIS-2018-0016.

• Postal Mail/Commercial Delivery: Send your comment to Docket No. APHIS-2018-0016, Regulatory Analysis and Development, PPD, APHIS, Station 3A-03.8, 4700 River, Road Unit 118, Riverdale, MD 20737-1238.

Supporting documents and any comments we receive on this docket may be viewed at http://www.regulations.gov/#!docketDetail;D=APHIS-2018-0016 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for the payment of indemnity due to infectious salmon anemia, contact Mrs. Teresa Robinson, USDA-APHIS-VS, Maine ISA Program Aquaculture Liaison, 253 King Street, Edmunds Township, ME 04628; (207) 319-3703. For copies of more detailed information on the information collection, contact Ms. Kimberly Hardy, APHIS' Information Collection Coordinator, at (301) 851-2483.

SUPPLEMENTARY INFORMATION:

Title: Infectious Salmon Anemia; Payment of Indemnity.

OMB Control Number: 0579-0192.

Type of Request: Revision to and extension of approval of an information collection.

Abstract: Under the Animal Health Protection Act (7 U.S.C. 8301 et seq.), the Animal and Plant Health Inspection Service (APHIS) of the U.S. Department of Agriculture is authorized, among other things, to prevent the interstate spread of serious diseases and pests of livestock within the United States when feasible. In connection with this mission, APHIS established regulations in 9 CFR part 53 to pay indemnity to salmon producers in Maine whose fish are destroyed because of infectious salmon anemia (ISA). However, payment is subject to the availability of funding.

ISA is a foreign animal disease of Atlantic salmon that is caused by an orthomyxovirus. The disease affects wild and farmed Atlantic salmon. ISA poses a substantial threat to the economic viability and sustainability of salmon aquaculture in the United States.

To take part in this indemnity program, producers must enroll in the cooperative ISA control program administered by APHIS and the State of Maine. Program participants must also inform the ISA Program Veterinarian in writing of the name of their accredited veterinarian, develop biosecurity protocols and a site-specific ISA action plan, submit fish inventory and mortality information, complete an appraisal and indemnity claim form, complete a proceeds from animals sold for slaughter form, and assist APHIS or State officials with onsite disease surveillance, testing, and biosecurity audits. Program participants, who may include certain aquaculture industry business owners, managers, site employees, accredited veterinarians, and designated laboratories, must also assist APHIS with certain disease surveillance activities.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 2.8 hours per response.

Respondents: ISA program participants such as certain aquaculture industry business owners, managers, site employees, accredited veterinarians, and laboratory personnel; exporters; and foreign animal health authorities from exporting countries.

Estimated annual number of respondents: 13.

Estimated annual number of responses per respondent: 14.

Estimated annual number of responses: 190.

Estimated total annual burden on respondents: 547 hours. (Due to averaging, the total annual burden hours may not equal the product of the annual number of responses multiplied by the reporting burden per response.)

All responses to this notice will be summarized and included in the request for OMB approval. All comments will also become a matter of public record.

Done in Washington, DC, this 26th day of March 2018.
Kevin Shea,
Administrator, Animal and Plant Health Inspection Service.

[FR Doc. 2018-06514 Filed 3-29-18; 8:45 am]

BILLING CODE 3410-34-P